DEPARTMENT OF THE TREASURY

Internal Revenue Service

26 CFR Part 301

[TD 9203]

RIN 1545-BC32

Deemed Election To Be an Association Taxable as a Corporation for a Qualified Electing S Corporation; Correction

AGENCY: Internal Revenue Service (IRS), Treasury.

ACTION: Correction to final regulations.

SUMMARY: This document adds the text that was inadvertently removed from the Code of Federal Regulations in TD 9203, which was published in the Federal Register on Monday, May 23, 2005 (70 FR 29452).

DATES: This correction is effective on May 23, 2005.

FOR FURTHER INFORMATION CONTACT: Jian H. Grant, (202) 622-3050 (not a toll-free number).

SUPPLEMENTARY INFORMATION:

Background

This document adds § 301.7701-3T to the Code of Federal Regulations. The final regulations that are the subject of this correction are under section 7701 of the Internal Revenue Code.

Need for Correction

As published, § 301.7701-3T was inadvertently removed in its entirety from the Code of Federal Regulations in TD 9203.

List of Subjects in 26 CFR Part 301

Employment taxes, Estate and excise taxes, Gift taxes, Income taxes, Penalties, Reporting and recordkeeping requirements.

Correction of Publication

Accordingly, 26 CFR part 301 is corrected as follows:

PART 301—PROCEDURE AND ADMINISTRATION

Paragraph 1. The authority citation for part 301 continues to read, in part, as follows:

Authority: 26 U.S.C. 7805 * * *

Par. 2. Section 301.7701-3T is added to read as follows:

§ 301.7701-3T Classification of certain business entities (temporary).

(a) through (c)(1)(i) [Reserved]. For further guidance, see § 301.7701-3(a) through (c)(1)(i).

(ii) Further notification of elections. An eligible entity required to file a Federal tax or information return for the taxable year for which an election is made under § 301.7701-3(c)(1)(i) must attach a copy of its Form 8832 to its Federal tax or information return for that year. If the entity is not required to file a return for that year, a copy of its Form 8832, “Entity Classification Election,” must be attached to the Federal income tax or information return of any direct or indirect owner of the entity for the taxable year of the owner that includes the date on which the election was effective. An indirect owner of the entity does not have to attach a copy of the Form 8832 to its return if an entity in which it has an interest is already filing a copy of the Form 8832 with its return. If an entity, or one of its direct or indirect owners, fails to attach a copy of a Form 8832 to its return as directed in this section, an otherwise valid election under § 301.7701-3(c)(1)(i) will not be invalidated, but the non-filing party may be subject to penalties, including any applicable penalties if the Federal tax or information returns are inconsistent with the entity's election under § 301.7701-3(c)(1)(i). In the case of returns for taxable years beginning after December 31, 2002, the copy of Form 8832 attached to a return pursuant to this paragraph (c)(1)(ii) is not required to be a signed copy.

(c)(1)(iii) through (h)(3) [Reserved]. For further guidance, see § 301.7701-3(c)(1)(iii) through (h)(3).

Guy R. Traynor,
Federal Register Liaison, Publications and Regulations Br., Legal Processing Division, Associate Chief Counsel, (Procedures and Administration).

[FR Doc. 06-507 Filed 1-19-06; 8:45 am]

BILLING CODE 4830-01-P